ENVIRONMENTAL PROTECTION AGENCY

[EPA-HQ-OECA-2012-0505; FRL-9992-37-OMS]

Information Collection Request Submitted to OMB for Review and Approval; Comment Request; NESHAP for Secondary Aluminum Production (Renewal)

AGENCY: Environmental Protection Agency (EPA).

ACTION: Notice.

SUMMARY: The Environmental Protection Agency (EPA) has submitted an information collection request (ICR), NESHAP for Secondary Aluminum Production (EPA ICR Number 1894.09, OMB Control Number 2060-0433), to the Office of Management and Budget (OMB) for review and approval in accordance with the Paperwork Reduction Act. This is a proposed extension of the ICR, which is currently approved through May 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 1, 2019.

ADDRESSES: Submit your comments, referencing Docket ID Number EPA-HQ-OECA-2012-0505, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Secondary Aluminum Production (40 CFR part 60, subpart RRR) apply to secondary aluminum production facilities that are major sources of hazardous air pollutants (HAP) either commencing construction, or reconstruction, after the date of proposal. This includes facilities that operate aluminum scrap shredders, thermal chip dryers, scrap dryers/delacquering kilns/decoating kilns, group 1 furnaces, group 2 furnaces, sweat furnaces, dross only furnaces, rotary dross coolers, and secondary aluminum processing units (SAPUs). The SAPUs include group 1 furnaces and in-line fluxers. The regulations also apply to secondary aluminum production facilities that are area sources of HAP only with respect to emissions of dioxins/furans (D/F) from thermal chip dryers, scrap dryers/delacquering kilns/decoating kilns, group 1 furnaces, sweat furnaces, and SAPUs. New facilities include those that commenced construction, or reconstruction after the date of proposal. This information is being collected to assure compliance with 40 CFR part 63, subpart RRR.

The 2015 rule amendments included a requirement to report performance testing through the Electronic Reporting Tool (ERT); provisions allowing owners and operators to change furnace classifications; requirements to account for unmeasured emissions during compliance testing for group 1 furnaces that do not have add-on control devices; alternative compliance options for the operating and monitoring requirements for sweat furnaces; compliance provisions for hydrogen fluoride; provisions addressing emissions during periods of startup, shutdown, and malfunction (SSM); and other corrections and clarifications to the applicability, definitions, operating, monitoring and performance testing requirements. The 2016 rule amendments amended the 2015 rule to clarify requirements for initial performance tests and submittal of malfunction reports, provide an additional option for group 1 furnaces to account for unmeasured emissions during compliance testing, clarify what constitutes a change in furnace operating mode, and updates the Web addresses for the EPA's Electronic Reporting Tool (ERT) and Compliance and Emissions Data Reporting Interface (CEDRI).

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Secondary aluminum production facilities.

Respondent's obligation to respond: Mandatory (40 CFR part 63, subpart RRR).

Estimated number of respondents: 161 (total).

Frequency of response: Initially, occasionally and semiannually.

Total estimated burden: 12,400 hours (per year). Burden is defined at 5 CFR 1320.3(b).

Total estimated cost: $5,520,000 (per year), which includes $4,110,000 in either annualized capital/startup and/or operation & maintenance costs.

Changes in the Estimates: There is also an adjustment decrease in the total estimated burden as currently identified in the OMB Inventory of Approved Burdens. The decrease is not due to any program changes. The change is due to correction of a mathematical error identified in the burden associated with the time required for facilities to refamiliarize with the regulatory requirements each year. The previous ICR stated that it would take each respondent one hour to read and understand the reporting requirements, but inadvertently included additional hours; the current ICR has been corrected to reflect one hour for this activity. The overall result is a slight decrease in burden hours.

Courtney Kerwin,
Director, Regulatory Support Division.

[FR Doc. 2019-11265 Filed 5-29-19; 8:45 am]

BILLING CODE 6560-50-P